TENNESSEE VALLEY AUTHORITY

Sunshine Act Meeting

Agency Holding the Meeting: Tennessee Valley Authority (Meeting No. 1522).

Time and Date: 9 a.m. (EDT), August 29, 2000.

Place: TVA Knoxville West Tower Auditorium, 400 West Summit Hill Drive, Knoxville, Tennessee.

Status: Open.

Agenda

Approval of minutes of meeting held on July 19, 2000.

New Business

C—Energy

C1. Supplement to Contract No. TV-62311A with Tennessee Emergency Management Agency (TEMA) through which TEMA cooperates in the operation and maintenance of radiological emergency plans and programs for TVA's nuclear plants.

C2. Supplement to indefinite quantity term agreement Contract No. 98XCB-227396-000/001 with Porter Walker, Inc., for industrial consumables and nonpower hand tools.

C3. Ward of a fixed-price contract to ALSTOM Power, Inc., Air Preheater Company for air preheater equipment for Allen Fossil Plant Units 1-3 and for a long-term alliance for air preheater equipment for any future TVA fossil units requiring air preheater equipment.

C4. Award of a term transportation contract to Norfolk Southern Railway Company for transportation of coal to John Sevier Fossil Plant.

E—Real Property Transactions

E1. Grant of a permanent easement to Limestone County, Alabama, affecting approximately 1.2 acres of land on the Browns Ferry Nuclear Plant Reservation for a road (Tract No. XTBFSP-1H).

E2. Abandonment of a portion of TVA's South Nashville-Springfield transmission line right-of way easement in Davidson County, Tennessee, affecting approximately 1,152 square feet of land to accommodate proposed commercial development (Tract No. NSP-100).

E3. Public auction sale of approximately 5.02 acres of the former Russellville, Kentucky, Power Service Center in Logan County, Kentucky (Tract No XRPSC-2).

E4. Sale of a permanent easement and a temporary construction easement to the City of Tupelo, Mississippi, for a sewerline affecting approximately 0.5 acre of TVA land in Lee County, Mississippi (Tract No. XTUSS-2S).

E5. Approval of Tellico Reservoir Land Management Plan for the use and management of approximately 12,643 acres of TVA land on Tellico Reservoir in Blount, Loudon, and Monroe Counties, Tennessee.

E6. Approval of Tims Ford Reservoir Land Management and Disposition Plan for the use and management of approximately 6,453 acres of TVA land on Tims Ford Reservoir in Franklin and Moore Counties, Tennessee.

E7. Deed modification affecting approximately 13.6 acres of former TVA land on Chickamauga Reservoir (a portion of Tract No. XCR-44) in Hamilton County, Tennessee, to allow for residential development by the Chattanooga Publishing Company.

F—Unclassified

1. Approval to file condemnation cases to acquire permanent easements and rights-of-way for transmission lines, the permanent right to remove and dispose of danger trees along a transmission line, and a temporary right to enter upon land to survey and appraise for an electric transmission line at Bessemer-Tuscaloosa Tap to Airport Lane transmission line in Jefferson County, Alabama, and the Rock Springs-Center Point transmission line in Whitfield County, Georgia.

Information Items

1. Amendments to section 6G to the TVA Retirement System Rules and Regulations concerning death in service benefits.

2. Approval to enter into a long-term power supply contract and a requirement contract with the United States Enrichment Corporation.

3. Modification of two contracts with Lodestar Energy, Inc., for coal supply to Cumberland, Colbert Unit 5, and Johnsonville Fossil Plants.

4. Modification of Contract No. P98P05-238605 with Peabody COALSALES Company for coal supply to Paradise Fossil Plant under a contract reopener provision.

5. Approval for sale and leaseback or lease and leaseback of certain power facilities.

For more information: Please call TVA Public Relations at (423) 632-6000, Knoxville, Tennessee. Information is also available at TVA's Washington Office (202) 898-2999. People who plan to attend the meeting and have special needs should call (865) 632-6000.

Dated: August 22, 2000.
Edward S. Christenbury,
General Counsel and Secretary.

[FR Doc. 00-21860 Filed 8-23-00; 8:45 am]

BILLING CODE 8120-08-M